SECURITIES EXCHANGE COMMISSION

[Release No. 34-43091; File No. SR-MSRB-00-09]

Self-Regulatory Organizations; Notice of Filing and Immediate Effectiveness of Proposed Rule Change by the Municipal Securities Rulemaking Board Consisting of Technical Amendments to Rules G-8 and G-15; Correction

August 7, 2000.

In FR Document 00-19771, the Release Number was incorrectly stated. The Release Number should read as follows: (Release No. 34-43091; File No. SR-MSRB-00-09)

Margaret H. McFarland,
Deputy Secretary.

[FR Doc. 00-20411 Filed 8-10-00; 8:45 am]

BILLING CODE 8010-01-M